SECURITIES AND EXCHANGE COMMISSION

Submission for OMB Review; Comment Request

Upon Written Request, Copies Available From: Securities and Exchange Commission, Office of Filings and Information Services, Washington, DC 20549-0004.

Extension:

Rule 88 and Form U-13-1; SEC File No. 270-80; OMB Control No. 3235-0182

Notice is hereby given that, pursuant to the Paperwork Reduction Act of 1995 (44 U.S.C. 3501 et seq.), the Securities and Exchange Commission (“Commission”) has submitted to the Office of Management and Budget (“OMB”) a request for extension of the matters relating to the previously approved collections of information discussed below.

Form U-13-1, [17 CFR 259.113] under the Public Utility Holding Company Act of 1935, as amended (“Act”), 15 U.S.C. 79, et seq., is required to be filed under Rule 88 of the Act by companies seeking Commission approval to become mutual service companies under the Act.

Rule 88 under the Act, which implements Section 13 of the Act requires the information collection prescribed by Form U-13-1. The Commission estimates that the total annual reporting and recordkeeping burden of collections for Form U-13-1 is 88 hours (22 responses × 4 hours = 88 hours).

The estimate of average burden hours are made for purposes of the Paperwork Reduction Act and are not derived from a comprehensive or representative survey or study of the costs of complying with the requirements of Commission rules and forms.

An Agency may not conduct or sponsor, and a person is not required to respond to, a collection of information unless it displays a currently valid control number.

Please direct general comments regarding the above information to the following persons: (i) Desk Officer for the Securities and Exchange Commission, Office of Information and Regulatory Affairs, Office of Management and Budget, Room 10102, New Executive Office Building, Washington, DC 20503; and (ii) R. Corey Booth, Director/Chief Information Officer, Office of Information Technology, Securities and Exchange Commission, 450 5th Street, NW., Washington, DC 20549. Comments must be submitted to OMB within 30 days of this notice.

Dated: March 3, 2004.
Jill M. Peterson,
Assistant Secretary.

[FR Doc. 04-5207 Filed 3-8-04; 8:45 am]

BILLING CODE 8010-01-P